SURFACE TRANSPORTATION BOARD

[Docket No. FD 36898]

Mt. Rainier Railroad LLC—Acquisition and Change of Operator Exemption—City of Tacoma, Department of Public Works d/b/a Tacoma Rail Mountain Division, and City of Tacoma, Department of Public Utilities d/b/a Tacoma Rail

Mt. Rainier Railroad LLC (MRSR), a noncarrier, has filed a verified notice of exemption under 49 CFR 1150.31 to: (1) acquire from the City of Tacoma, Wash., Department of Public Works d/b/a Tacoma Rail Mountain Division (TRMW) and operate approximately 33.59 miles of rail line extending from milepost 32.0M at Eatonville, Wash., to milepost 65.59M at Morton, Wash. (the Line); and (2) replace the City of Tacoma, Department of Public Utilities d/b/a Tacoma Rail (Tacoma Rail) as the common carrier service provider on the Line, thereby terminating Tacoma Rail's common carrier status with respect to the Line.

According to the verified notice, MRSR is a subsidiary holding of the Western Forest Industries Museum (WFIM), and is not affiliated with any railroad common carriers.¹ The verified notice states that MRSR and TRMW have reached an agreement pursuant to which MRSR will purchase the Line from TRMW and, upon consummation of the transaction, assume exclusive common carrier operations over the Line in place of Tacoma Rail. The verified notice, which describes TRMW and Tacoma Rail as sister divisions of the City of Tacoma, further states that Tacoma Rail is a party to the proposed transaction and concurs with the proposed change of common carrier operator on the Line.

¹ The verified notice states that WFIM controls the Mt. Rainier Scenic Railroad, a non-common carrier tourist excursion operation.

MRSR certifies that it will not be contractually limited in its ability to interchange traffic with any third-party connecting carrier. MRSR further certifies that its projected annual revenues will not exceed $5 million and will not result in MRSR's becoming a Class I or Class II rail carrier. Under 49 CFR 1150.32(b), a change in operator requires that notice be given to shippers. MRSR states that there are currently no shippers to notify of the transaction and explains that the Line is currently inactive and has not been used by a shipper for over a year.

The earliest this transaction may be consummated is January 4, 2026, the effective date of the exemption (30 days after the verified notice was filed). MRSR states that it will consummate the transaction and offer common carrier service in place of Tacoma Rail on or after this date.

If the verified notice contains false or misleading information, the exemption is void ab initio. Petitions to revoke the exemption under 49 U.S.C. 10502(d) may be filed at any time. The filing of a petition to revoke will not automatically stay the effectiveness of the exemption. Petitions for stay must be filed no later than December 26, 2025 (at least seven days before the exemption becomes effective).

All pleadings, referring to Docket No. FD 36898, must be filed with the Surface Transportation Board either via e-filing on the Board's website or in writing addressed to 395 E Street SW, Washington, DC 20423-0001. In addition, a copy of each pleading must be served on MRSR's representative, Robert A. Wimbish, Fletcher & Sippel LLC, 29 North Wacker Drive, Suite 800, Chicago, IL 60606-3208.

According to MRSR, this action is categorically excluded from environmental review under 49 CFR1105.6(c) and from historic preservation reporting requirements under 49 CFR 1105.8(b).

Board decisions and notices are available at www.stb.gov.

Decided: December 16, 2025.
By the Board, Anika S. Cooper, Chief Counsel, Office of Chief Counsel.
Stefan Rice,
Clearance Clerk.

[FR Doc. 2025-23403 Filed 12-18-25; 8:45 am]

BILLING CODE 4915-01-P